DEPARTMENT OF COMMERCE

International Trade Administration

[A-570-133]

Certain Metal Lockers and Parts Thereof From the People's Republic of China: Preliminary Results, Preliminary Determination of No Shipments, and Partial Rescission of Antidumping Duty Administrative Review; 2022-2023

AGENCY: Enforcement and Compliance, International Trade Administration, Department of Commerce.

SUMMARY: The U.S. Department of Commerce (Commerce) preliminarily finds that certain exporters made sales of certain metal lockers and parts thereof (metal lockers) from the People's Republic of China (China) and that certain companies had no shipments of metal lockers from China during the period of review during the period of review (POR), August 1, 2022, through July 31, 2023. Additionally, Commerce is rescinding this review with respect to certain companies. Interested parties are invited to comment on these preliminary results.

DATES: Applicable September 13, 2024.

FOR FURTHER INFORMATION CONTACT: Deborah Cohen or Matthew Palmer, AD/CVD Operations, Office III, Enforcement and Compliance, International Trade Administration, U.S. Department of Commerce, 1401 Constitution Avenue NW, Washington, DC 20230; telephone: (202) 482-4521 or (202) 482-1678, respectively.

SUPPLEMENTARY INFORMATION:

Background

On August 20, 2021, Commerce published in the Federal Register the antidumping duty Order on metal lockers from China.¹ On August 2, 2023, Commerce published a notice of opportunity to request an administrative review of the Order for the POR in the Federal Register.² On October 18, 2023, in accordance with 19 CFR 351.221(c)(1)(i), Commerce published a notice of initiation for this administrative review in response to requests to review by interested parties.³ On April 9, 2024, we extended the deadline for these preliminary results, in accordance with section 751(a)(3)(A) of the Tariff Act of 1930, as amended (the Act), and 19 CFR 351.213(h)(2), until August 30, 2024.⁴ On July 22, 2024, Commerce tolled certain deadlines in this administrative proceeding by seven days.⁵ As a result, the deadline for these preliminary results is now September 6, 2024.

¹ See Certain Metal Lockers and Parts Thereof from the People's Republic of China: Antidumping and Countervailing Duty Orders, 86 FR 46826 (August 20, 2021) (Order).

² See Antidumping or Countervailing Duty Order, Finding, or Suspended Investigation; Opportunity to Request Administrative Review and Join Annual Inquiry Service List, 88 FR 50840 (August 2, 2023).

³ See Initiation of Antidumping and Countervailing Duty Administrative Reviews, 88 FR 71829 (October 18, 2023) (Initiation Notice).

⁴ See Memorandum, “Extension of Deadline for Preliminary Results of Antidumping Duty Administrative Review,” dated April 9, 2024.

⁵ See Memorandum, “Tolling of Deadlines for Antidumping and Countervailing Duty Proceedings,” dated July 22, 2024.

For a complete description of the events that followed the initiation of this administrative review, see the Preliminary Decision Memorandum.⁶ A list of topics included in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁶ See Memorandum, “Decision Memorandum for the Preliminary Results of the Administrative Review of the Antidumping Duty Order on Certain Metal Lockers and Parts Thereof from the People's Republic of China, 2022-2023,” dated concurrently with this notice (Preliminary Decision Memorandum).

Scope of the Order

The products covered by the Order are metal lockers from China. For a complete description of the Order, see the Preliminary Decision Memorandum.

Partial Rescission of Review

Pursuant to 19 CFR 351.213(d)(1), based on the timely withdrawal of the requests for review, we are rescinding this administrative review with respect to: (1) Zhejiang Safewell Security Technology Co., Ltd. (Zhejiang Safewell); (2) Ningbo Safewell Group Smart Security Products Co., Ltd. (Ningbo Safewell); (3) Ningbo Safewell Safes; (4) Xpedition LLC (doing business as (DBA) Safewell Gr.) (Xpedition); and (5) Safewell Group Holdings, Ltd. (Safewell Group).⁷ Furthermore, on April 15, 2024, Commerce notified interested parties of its intent to rescind the review with respect to the companies which had no reviewable suspended entries of subject merchandise during the POR, specifically with respect to: (1) Kunshan Dongchu Precision Machinery Co., Ltd. (Kunshan Dongchu); and (2) Tianjin Jia Mei Metal Furniture Ltd. (Tianjin Jia Mei).⁸ Commerce did not receive comments regarding its intent to rescind the review, in part, and as a result, pursuant to 19 CFR 351.213(d)(3), in the absence of any suspended entries during the POR from certain companies subject to the review, Commerce is rescinding the review with respect to Kunshan Dongchu and Tianjin Jia Mei.⁹

⁷ See Zhejiang Safewell et al.'s Letters, “No Shipment Certifications,” dated October 31, 2023; and “Withdrawal of Request for Administrative Review,” dated October 31, 2023.

⁸ See Memorandum, “Notice of Intent to Rescind Review, In Part,” dated April 15, 2024.

⁹ Id.

Preliminary Determination of No Shipments

Based on the no-shipment certification provided by Zhejiang Xingyi Metal Products Co., Ltd. (ZXM),¹⁰ as corroborated by the comments provided by mandatory respondent Xingyi Metalworking Technology (Zhejiang) Co., Ltd. (XMT) in response to our release of U.S. Customs and Border Protection (CBP) entry data for the purpose of respondent selection,¹¹ we preliminarily determine that ZXM did not have any shipments of subject merchandise to the United States during the POR. However, we intend to request information from CBP to confirm that there were no entries attributable to ZXM in the POR.¹²

¹⁰ See ZXM's Letter, “ZXM's Company Certification for Notice of No Sales,” dated November 17, 2023.

¹¹ See XMT's Letter, “Comments on CBP Data,” dated November 24, 2023.

¹² See Preliminary Decision Memorandum for further discussion.

Further, on April 2, 2024, Commerce notified parties that, as a result of its final results of changed circumstances review,¹³ Commerce determined it necessary to deselect and not examine Jiangsu Wanlong Special Containers Co., Ltd. (Jiangsu Wanlong) as a mandatory respondent, specifically because the record demonstrates that its entries during the POR are not subject to the Orders.¹⁴ Accordingly, we also preliminarily determine that Jiangsu Wanlong did not have any shipments of subject merchandise to the United States during the POR. Consistent with Commerce's practice in non-market economy (NME) cases, we have not rescinded the review with respect to Jiangsu Wanlong and ZXM, but we will continue the review of these companies and issue instructions to CBP based on the final results of the review.¹⁵

¹³ See Certain Metal Lockers and Parts Thereof from the People's Republic of China: Final Results of Antidumping Duty Changed Circumstances Reviews, and Revocation of the Antidumping and Countervailing Duty Orders, in Part, 89 FR 22377 (April 1, 2024).

¹⁴ See Memorandum, “Respondent Deselection and Selection of Replacement Mandatory Respondent,” dated April 2, 2024.

¹⁵ See Non-Market Economy Antidumping Proceedings: Assessment of Antidumping Duties, 76 FR 65694 (October 24, 2011).

The China-Wide Entity

Under Commerce's policy regarding the conditional review of the China-wide entity,¹⁶ the China-wide entity will not be under review unless a party specifically requests, or Commerce self-initiates, a review of the entity. Because no party requested a review of the China-wide entity in this review, the entity is not under review, and the entity's rate (i.e., 322.25 percent) is not subject to change. For additional information, see the Preliminary Decision Memorandum.

¹⁶ See Antidumping Proceedings: Announcement of Change in Department Practice for Respondent Selection in Antidumping Duty Proceedings and Conditional Review of the Nonmarket Economy Entity in NME Antidumping Duty Proceedings, 78 FR 65963 (November 4, 2013).

Methodology

Commerce is conducting this review in accordance with section 751(a)(1)(B) of the Act. Commerce has calculated export prices in accordance with section 772(a) of the Act and constructed export prices in accordance with section 772(b) of the Act. Because China is an NME, within the meaning of section 771(18) of the Act, Commerce has calculated normal value (NV) in accordance with section 773(c) of the Act. For a full description of the methodology underlying Commerce's preliminary results, see the Preliminary Decision Memorandum.

Preliminary Results of Review

We preliminarily determine that the following estimated weighted-average dumping margins exist for the period February 11, 2021, through July 31, 2022:

Exporter | Weighted-average dumping margin (percent)
Xingyi Metalworking Technology (Zhejiang) Co., Ltd | 61.44
Hangzhou Evernew Machinery & Equipment Company Limited | 22.67

Disclosure and Public Comment

Commerce intends to disclose the calculations performed in connection with these preliminary results to interested parties within five days after the date of publication of this notice, in accordance with 19 CFR 351.224(b). Interested parties may submit case briefs no later than 30 days after the date of publication of these preliminary results of review.¹⁷ Rebuttal briefs, limited to issues raised in case briefs, may be submitted no later than five days after the deadline date for case briefs.¹⁸ As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁹ Further, we request that interested parties limit their public executive summary of each issue to no more than 450 words, not including citations. We intend to use the public executive summaries as the basis of the comment summaries included in the issues and decision memorandum that will accompany the final results in this administrative review. We request that interested parties include footnotes for relevant citations in the public executive summary of each issue. Case and rebuttal briefs should be filed using ACCESS.²⁰ Note that Commerce has amended certain of its requirements pertaining to the service of documents in 19 CFR 351.303(f).²¹

¹⁷ See 19 CFR 351.309(c)(1)(ii).

¹⁸ See 19 CFR 351.309(d); see also Administrative Protective Order, Service, and Other Procedures in Antidumping and Countervailing Duty Proceedings, 88 FR 67069, 67077 (September 29, 2023) (APO and Service Final Rule).

¹⁹ We use the term “issue” here to describe an argument that Commerce would normally address in a comment of the Issues and Decision Memorandum.

²⁰ See, generally, 19 CFR 351.303.

²¹See APO and Service Final Rule.

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.²² Requests should contain the party's name, address, and telephone number, the number of participants, whether any participant is a foreign national, and a list of the issues to be discussed. If a request for a hearing is made, Commerce intends to hold the hearing at a time and date to be determined.²³ Parties should confirm by telephone the date and time of the hearing two days before the scheduled date.

²² See 19 CFR 351.310(c).

²³ See 19 CFR 351.310(d).

Assessment Rates

Upon issuance of the final results, Commerce will determine, and CBP shall assess, antidumping duties on all appropriate entries covered by this review, in accordance with 19 CFR 351.212(b)(1). Commerce intends to issue assessment instructions to CBP 35 days after the publication of the final results of this review. If a timely summons is filed at the U.S. Court of International Trade, the assessment instructions will direct CBP not to liquidate relevant entries until the time for parties to file a request for a statutory injunction has expired (i.e., within 90 days of publication).

We will calculate importer/customer-specific assessment rates equal to the ratio of the total amount of dumping calculated for examined sales to a particular importer/customer to the total entered value of those sales, in accordance with 19 CFR 351.212(b)(1).²⁴ Where the respondents reported reliable entered values, Commerce intends to calculate importer/customer-specific ad valorem assessment rates by dividing the total amount of dumping calculated for all reviewed U.S. sales to the importer/customer by the total entered value of the merchandise sold to the importer/customer.²⁵ Where the respondents did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.²⁶ Where an importer/customer-specific ad valorem assessment rate is not zero or de minimis, Commerce will instruct CBP to collect the appropriate duties at the time of liquidation. Where either the respondents' ad valorem weighted-average dumping margin is zero or de minimis, or an importer/customer-specific ad valorem assessment rate is zero or de minimis,²⁷ Commerce will instruct CBP to liquidate the appropriate entries without regard to antidumping duties.

²⁴ In these preliminary results, Commerce applied the assessment rate calculation method adopted in Antidumping Proceedings: Calculation of the Weighted-Average Dumping Margin and Assessment Rate in Certain Antidumping Proceedings: Final Modification, 77 FR 8101 (February 14, 2012).

²⁵ See 19 CFR 351.212(b)(1).

²⁶ Id.

²⁷ See 19 CFR 351.106(c)(2).

Pursuant to Commerce's refinement to its practice, for sales that were not reported in the U.S. sales database submitted by a respondent individually examined during this review, Commerce will instruct CBP to liquidate the entry of such merchandise at the dumping margin assigned to the China-wide entity.²⁸ Additionally, where Commerce determines that an exporter under review had no shipments of subject merchandise during the POR, any suspended entries of subject merchandise that entered under that exporter's CBP case number during the POR will be liquidated at the antidumping duty assessment rate for the China-wide entity.

²⁸ 28 For a full discussion of this practice, see Non-Market Economy Antidumping Proceedings: Assessment of Antidumping Duties, 76 FR 65694 (October 24, 2011).

For the companies for which this review is rescinded with these preliminary results, we will instruct CBP to assess antidumping duties on all appropriate entries at a rate equal to the cash deposit of estimated antidumping duties required at the time of entry, or withdrawal from warehouse, for consumption, during the POR, in accordance with 19 CFR 351.212(c)(l)(i). For the companies rescinded from review, Commerce intends to issue assessment instructions to CBP 35 days after the publication of this notice in the Federal Register.

In accordance with section 751(a)(2)(C) of the Act, the final results of this review shall be the basis for the assessment of antidumping duties on entries of merchandise covered by the final results of this review and for future deposits of estimated ADs, where applicable.

Cash Deposit Requirements

The following cash deposit requirements will be effective upon publication of the final results of this review for all shipments of the subject merchandise from China entered, or withdrawn from warehouse, for consumption on or after the date of publication of the notice of the final results of administrative review in the Federal Register, as provided for by section 751(a)(2)(C) of the Act: (1) for the companies that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 322.25 percent); and (4) for all non-Chinese exporters of subject merchandise that have not received their own rate, the cash deposit rate will be the rate applicable to the Chinese exporter that supplied that non-Chinese exporter. These cash deposit requirements, when imposed, shall remain in effect until further notice.

Final Results of Review

Unless otherwise extended, we intend to issue the final results of this administrative review, which will include the results of our analysis of the issues raised in the case and rebuttal briefs, within 120 days of publication of these preliminary results in the Federal Register, pursuant to section 751(a)(3)(A) of the Act and 19 CFR 351.213(h).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing the preliminary results of this review in accordance with sections 751(a)(l) and 777(i)(l) of the Act, 19 CFR 351.213(d)(4), and 19 CFR 351.221(b)(4).

Dated: September 6, 2024.
Abdelali Elouaradia,
Deputy Assistant Secretary for Enforcement and Compliance.

Appendix—List of Topics Discussed in the Preliminary Decision Memorandum

I. Summary

II. Background

III. Scope of the Order

IV. Preliminary Determination of No Shipments

V. Partial Recission of Administrative Review

VI. Discussion of the Methodology

VII. Adjustment Under Section 777(A)(f) of the Act

VIII. Currency Conversion

IX. Recommendation

[FR Doc. 2024-20780 Filed 9-12-24; 8:45 am]

BILLING CODE 3510-DS-P